NATIONAL AERONAUTICS AND SPACE ADMINISTRATION

48 CFR Parts 1835 and 1852

RIN 2700-AD04

Final Scientific and Technical Reports—SBIR and STTR Contracts

AGENCY: National Aeronautics and Space Administration.

ACTION: Final rule.

SUMMARY: This rule adopts as final without change the proposed rule published in the Federal Register on August 12, 2004. This final rule amends the NASA FAR Supplement (NFS) by adding an Alternate III to the “Final Scientific and Technical Reports” clause for use in contracts awarded under the Small Business Innovation Research (SBIR) and the Small Business Technology Transfer (STTR) programs. This change is required to recognize the “Rights in Data—SBIR Programs” clause rather than the FAR “Rights in Data—General” clause currently referenced in the NFS “Final Scientific and Technical Reports” clause.

DATES: Effective Date: This rule is effective January 12, 2005.

FOR FURTHER INFORMATION CONTACT: Celeste Dalton, NASA, Office of Procurement, Contract Management Division; (202) 358-1645; e-mail: Celeste.M.Dalton@nasa.gov.

SUPPLEMENTARY INFORMATION:

A. Background

The NASA FAR Supplement at 1835.070(d) requires all research and development contracts to include the clause at 1852.235-73, Final Scientific and Technical Reports. SBIR and STTR contracts are considered R&D contracts and must include the clause at 1852.235-73. This clause provides direction to the contractor regarding its ability to release data first produced or used in performance of the contract. However, the clause currently only address the contractor's rights in data as defined in FAR 52.227-14, Rights in Data—General. Contractor rights in data under SBIR and STTR contracts are defined in FAR clause 52.227-20, Rights in Data—SBIR Program. This change adds an Alternate III to 1852.235-73 for use in SBIR and STTR contracts that references FAR 52.227-20 to recognize contractor data rights under SBIR and STTR contracts.

NASA published a proposed rule in the Federal Register on August 12, 2004 (69 FR 49845). No comments were received. The proposed rule is being adopted as final without change.

This is not a significant regulatory action and, therefore, was not subject to review under section 6(b) of Executive Order 12866, Regulatory Planning and Review, dated September 30, 1993. This rule is not a major rule under 5 U.S.C. 804.

B. Regulatory Flexibility Act

NASA certifies that this final rule does not have a significant economic impact on a substantial number of small entities with the meaning of the Regulatory Flexibility Act, 5 U.S.C. 601 et seq., because it only clarifies what the appropriate data rights clause is used under SBIR and STTR contracts.

C. Paperwork Reduction Act

The Paperwork Reduction Act does not apply because the changes do not impose recordkeeping or information collection requirements which require the approval of the Office of Management and Budget under 44 U.S.C. 3501, et seq.

List of Subjects in 48 CFR Parts 1835 and 1852

Government procurement.

Tom Luedtke,
Assistant Administrator for Procurement.

Accordingly, 48 CFR parts 1835 and 1852 are amended as follows:

1. The authority citation for 48 CFR parts 1835 and 1852 continues to read as follows:

Authority: 42 U.S.C. 2473(c)(1).

PART 1835—RESEARCH AND DEVELOPMENT CONTRACTING

2. Amend section 1835.070 by adding paragraph (d)(3) to read as follows:

1835.070 NASA contract clauses and solicitation provision.

* * * * *

(d) * * *

(3) Except when Alternate II applies in accordance with paragraph (d)(2) of this section, the contracting officer shall insert the clause with its Alternate III in all SBIR and STTR contracts.

* * * * *

PART 1852—SOLICITATION PROVISIONS AND CONTRACT CLAUSES

3. Amend section 1852.235-73 by revising the date of the clause to read “(JAN 2005)” in the first sentence of paragraph (b), removing “NPG” and adding “NPR” in its place; and adding Alternate III to read as follows:

1852.235-73 Final Scientific and Technical Reports.

* * * * *

Alternate III

(Jan 2005)

As prescribed by 1835.070(d)(3), insert the following as paragraph (e) of the basic clause:

(e) The Contractor's rights in data are defined in FAR 52.227-20, Rights In Data—SBIR Program. The Contractor may publish, or otherwise disseminate, such data without prior review by NASA. The Contractor is responsible for reviewing publication or dissemination of the data for conformance with laws and regulations governing its distribution, including intellectual property rights, export control, national security and other requirements, and to the extent the Contractor receives or is given access to data necessary for the performance of the contract which contain restrictive markings, for complying with such restrictive markings. In the event the Contractor has established its claim to copyright data produced under this contract and has affixed a copyright notice and acknowledgement of Government sponsorship, or has affixed the SBIR Rights Notice contained in paragraph (d) of FAR 52.227-20, the Government shall comply with such Notices.

[FR Doc. 05-530 Filed 1-11-05; 8:45 am]

BILLING CODE 7510-01-U